DEPARTMENT OF TRANSPORTATION

Federal Aviation Administration

14 CFR Part 71

[Docket No. FAA-2021-0003; Airspace Docket No. 21-ACE-5]

RIN 2120-AA66

Amendment of Class D and E Airspace and Revocation of Class E Airspace; Cape Girardeau, MO

AGENCY: Federal Aviation Administration (FAA), DOT.

ACTION: Final rule.

SUMMARY: This action amends the Class D and Class E airspace and revokes Class E airspace at Cape Girardeau Regional Airport, Cape Girardeau, MO. The FAA is making this action as the result of an airspace review caused by the decommissioning of the Marion very high frequency (VHF) omnidirectional range (VOR) navigation aid as part of the VOR Minimum Operational Network (MON) Program. The name of the localizer is also updated to coincide with the FAA's aeronautical database. Controlled airspace is necessary for the safety and management of instrument flight rules (IFR) operations in the area.

DATES: Effective 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at http://www.faa.gov/air_traffic/publications/. For further information, you can contact the Airspace Policy Group, Federal Aviation Administration, 800 Independence Avenue SW, Washington, DC 20591; Telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: John Fornito, Operations Support Group, Eastern Service Center, Federal Aviation Administration, 1701 Columbia Ave., College Park, GA 30337; Telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace; amends the Class E surface airspace; amends the Class E airspace extending upward from 700 feet above the surface; and revokes the Class E airspace area designated as an extension to Class D and Class E surface airspace at Cape Girardeau Regional Airport, Cape Girardeau, MO, to support IFR operations at this airport.

History

The FAA published a notice of proposed rulemaking in the Federal Register (86 FR 22368, April 28, 2021) for Docket No. FAA-2021-0003 to amend Class D airspace, Class E surface airspace, and Class E airspace extending upward from 700 feet above the surface at Cape Girardeau Regional Airport, Cape Girardeau, MO, to accommodate area navigation (RNAV) global positioning system (GPS) standard instrument approach procedures (SIAPs) serving this airport. Also, the FAA is removing the Class E airspace area designated as an extension to Class D and Class E surface areas at Cape Girardeau Regional Airport, as it is no longer required.

Interested parties were invited to participate in this rulemaking effort by submitting written comments on the proposal to the FAA. No comments were received.

Class D and Class E airspace designations are published in Paragraphs 5000, 6002, 6004, and 6005, respectively, of FAA Order 7400.11E, dated July 21, 2020, and effective September 15, 2020, which is incorporated by reference in 14 CFR 71.1. The Class E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic routes, and reporting points.

The Rule

The FAA is amending 14 CFR part 71 by: Amending the Class D airspace at Cape Girardeau Regional Airport, Cape Girardeau, MO, by adding an extension 1 mile each side of the 021° bearing from the airport extending from the 4.1-mile radius to 4.4 miles north of the airport; and adding an extension 1 mile each side of the 106° bearing from the Cape Girardeau RGNL: RWY 10-LOC extending from the 4.1-mile radius of the airport to 4.4 miles east of the Cape Girardeau RGNL: RWY 10-LOC;

Amending the Class E surface airspace at Cape Girardeau Regional Airport by removing the vertical limit on the airspace as it is not required; adding an extension 1 mile each side of the 021° bearing from the airport extending from the 4.1-mile radius to 4.4 miles north of the airport; and adding an extension 1 mile each side of the 106° bearing from the Cape Girardeau RGNL: RWY 10-LOC extending from the 4.1-mile radius of the airport to 4.4 miles east of the Cape Girardeau RGNL: RWY 10-LOC;

Removing the Class E airspace area designated as an extension to Class D and Class E surface area at Cape Girardeau Regional Airport as it is no longer required;

And amending the Class E airspace extending upward from 700 feet above the surface at Cape Girardeau Regional Airport by removing the Cape Girardeau VOR/DME and associated extension from the airspace legal description; updating the bearing of the north extension to 021° (previously 023°); updating the bearing of the east extension to 106° (previously 108°) and changing the reference of the extension to the Cape Girardeau RGNL: RWY 10-LOC (previously the airport); updating the bearing of the south extension to 201° (previously 203°); and updating the bearing of the west extension to 286° (previously 280°); and updating the name of the Cape Girardeau RGNL: RWY 10-LOC (previously Cape Girard Regional Localizer) to coincide with the FAA's aeronautical database.

This action is necessary due to an airspace review caused by the decommissioning of the Marion VOR, which provided navigation information for the instrument procedures this airport, as part of the VOR MON Program.

FAA Order 7400.11, Airspace Designations and Reporting Points, is published yearly and effective on September 15.

Regulatory Notices and Analyses

The FAA has determined that this regulation only involves an established body of technical regulations for which frequent and routine amendments are necessary to keep them operationally current. It therefore: (1) Is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures an air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ACE MO D Cape Girardeau, MO [Amended]

Cape Girardeau Regional Airport, MO

(Lat. 37°13′31″N, long. 89°34′15″W)

Cape Girardeau RGNL: RWY 10-LOC

(Lat. 37°13′18″N, long. 89°33′25″W)

That airspace extending upward from the surface to and including 2,800 feet within a 4.1-mile radius of Cape Girardeau Regional Airport, and within 1 mile each side of the 021° bearing from the airport extending from the 4.1-mile radius of the airport to 4.4 miles north of the airport, and within 1 mile each side of the 106° bearing from the Cape Girardeau RGNL: RWY 10-LOC extending from the 4.1-mile radius of the airport to 4.4 miles east of the Cape Girardeau RGNL: RWY 10-LOC. This Class D airspace area is effective during the specific dates and times established in advance by a Notice to Airmen. The effective date and time will thereafter be continuously published in the Chart Supplement.

Paragraph 6002 Class E Surface Airspace.

* * * * *

ACE MO E2 Cape Girardeau, MO [Amended]

Cape Girardeau Regional Airport, MO

(Lat. 37°13′31″N, long. 89°34′15″W)

Cape Girardeau RGNL: RWY 10-LOC

(Lat. 37°13′18″N, long. 89°33′25″W)

That airspace extending upward from the surface within a 4.1-mile radius of Cape Girardeau Regional Airport, and within 1 mile each side of the 021° bearing from the airport extending from the 4.1-mile radius of the airport to 4.4 miles north of the airport, and within 1 mile each side of the 106° bearing from the Cape Girardeau RGNL: RWY 10-LOC extending from the 4.1-mile radius of the airport to 4.4 miles east of the Cape Girardeau RGNL: RWY 10-LOC. This Class E airspace area is effective during the specific dates and times established in advance by a Notice to Airmen. The effective date and time will thereafter be continuously published in the Chart Supplement.

Paragraph 6004 Class E Airspace Designated as an Extension to Class E Surface Area.

* * * * *

ACE MO E4 Cape Girardeau, MO [Removed]

Paragraph 6005 Class E Airspace Areas Extending Upward From 700 Feet or More Above the Surface of the Earth.

* * * * *

ACE MO E5 Cape Girardeau, MO [Amended]

Cape Girardeau Regional Airport, MO

(Lat. 37°13′31″N, long. 89°34′15″W)

Cape Girardeau RGNL: RWY 10-LOC

(Lat. 37°13′18″N, long. 89°33′25″W)

That airspace extending upward from 700 feet above the surface within a 6.6-mile radius of the Cape Girardeau Regional Airport, and within 1.9 miles each side of the 021° bearing from the airport extending from the 6.6-mile radius of the airport to 7.3 miles north of the airport, and within 3.8 miles each side of the 106° bearing from the Cape Girardeau RGNL: RWY 10-LOC extending from the 6.6-mile radius of the airport to 14 miles east of the Cape Girardeau RGNL: RWY 10-LOC, and within 2 miles each side of the 201° bearing from the airport from the 6.6-mile radius of the airport to 7.5 miles south of the airport, and within 2 miles each side of the 286° bearing from the airport extending from the 6.6-mile radius of the airport to 7.4 miles west of the airport.

Issued in College Park, Georgia, on July 19, 2021.
Andreese C. Davis,
Manager, Airspace & Procedures Team South, Eastern Service Center, Air Traffic Organization.

[FR Doc. 2021-15674 Filed 7-22-21; 8:45 am]

BILLING CODE 4910-13-P